DEPARTMENT OF JUSTICE

U.S. Antitrust Division

Notice Pursuant to the National Cooperative Research and Production Act of 1993—North American Association of Food Equipment Manufacturers

Notice is hereby given that, on September 16, 2004, pursuant to Section 6(a) of the National Cooperative Research and Production Act of 1993, 15 U.S.C. 4301 et seq. (“the Act”), North American Association of Food Equipment Manufacturers (“NAFEM”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: North American Association of Food Equipment Manufacturers, Chicago, IL. The nature and scope of NAFEM's standards development activities are: NAFEM Data Protocol—a standard set of rules that governs data exchange between commercial food service equipment and a computer.

Dorothy B. Fountain,
Deputy Director of Operations, Antitrust Division.

[FR Doc. 04-23776 Filed 10-22-04; 8:45 am]

BILLING CODE 4410-11-M